DEPARTMENT OF COMMERCE

National Oceanic and Atmospheric Administration

[RTID 0648-XB506]

Determination of Overfishing or an Overfished Condition

AGENCY: National Marine Fisheries Service (NMFS), National Oceanic and Atmospheric Administration (NOAA), Commerce.

ACTION: Notice.

SUMMARY: This notice announces that NMFS, acting on behalf of the Secretary of Commerce (Secretary), has found that Northwest Atlantic porbeagle is still overfished.

FOR FURTHER INFORMATION CONTACT: Kathryn Frens, (301) 427-8523.

SUPPLEMENTARY INFORMATION: Pursuant to section 304(e)(2) of the Magnuson-Stevens Fishery Conservation and Management Act (Magnuson-Stevens Act), 16 U.S.C. 1854(e)(2), NMFS, on behalf of the Secretary, must publish a notice in the Federal Register whenever it determines that a stock or stock complex is subject to overfishing, overfished, or approaching an overfished condition.

NMFS has determined that Northwest Atlantic porbeagle is still overfished. This determination is based on the most recent assessment, conducted in 2020 and using data through 2018, which indicates that this stock is overfished because the biomass is below the threshold. NMFS manages Northwest Atlantic porbeagle sharks under the 2006 Consolidated Atlantic Highly Migratory Species Fishery Management Plan and its amendments. NMFS continues to work with the International Commission for the Conservation of Atlantic Tunas to rebuild this stock through an international rebuilding program.

Dated: January 28, 2022.
Ngagne Jafnar Gueye,
Acting Director, Office of Sustainable Fisheries, National Marine Fisheries Service.

[FR Doc. 2022-02156 Filed 2-1-22; 8:45 am]

BILLING CODE 3510-22-P